DEPARTMENT OF HEALTH AND HUMAN SERVICES

National Institutes of Health

Proposed Collection; Comment Request; STAR METRICS—Science and Technology in America's Reinvestment: Measuring the Effects of Research on Innovation, Competitiveness and Science

SUMMARY: In compliance with the requirement of Section 3506(c)(2)(A) of the Paperwork Reduction Act of 1995, for opportunity for public comment on proposed data collection projects, the Office of Science Policy Analysis (OSPA), the National Institutes of Health (NIH) will publish periodic summaries of proposed projects to be submitted to the Office of Management and Budget (OMB) for review and approval.

Proposed Collection: Title: STAR METRICS—Science and Technology for America's Reinvestment: Measuring the Effects of Research on Innovation, Competitiveness and Science.

Type of Information Collection Request: Extension.

Need and Use of Information Collection: The aim of STAR METRICS is twofold. The initial goal of STAR METRICS is to provide mechanisms that will allow participating universities and Federal agencies with a reliable and consistent means to account for the number of scientists and staff that are on research institution payrolls, supported by Federal funds. In subsequent generations of the program, it is hoped that STAR METRICS will allow for measurement of science impact on economic outcomes (such as job creation), on knowledge generation (such as citations and patents) as well as on social and health outcomes.

Frequency of Response: Quarterly.

Affected Public: Universities.

Type of Respondents: University administrators.

Estimated Number of Respondents: 100.

Estimated Number of Responses per Respondent: 4.

Average Burden Hours per Response: Reduced by 156.

Estimated Total Annual Burden Hours Requested: Reduced by 15,600.

The annualized cost to respondents is estimated to be reduced by $780,000. There are no Capital Costs to report. There are no Operating or Maintenance Costs to report.

Note: The following table is acceptable for the Respondent and Burden Estimate information, if appropriate, instead of the text as shown above.

A.12-1—Estimates of Net Hour Burden Reduction
Type of respondents | Number of respondents | Frequency of response | Average time per response (in hours) | Annual hour burden
Stage 1: Immediate | 100 | 1 | 72 | +7,200
Stage 1: Expected Reduction in Current burden (assuming 100 universities and at median) | 100 | 4 | 40 | −16,000
Net reduction in burden | 100 | 4 |  | −8,800
Stage 1: Future | 100 | 4 | 1.0 | +400
Stage 2: Expected Reduction in Current burden (assuming 100 universities and at median) | 100 | 4 | 40 | −16,000
Net reduction in burden | 100 | 4 |  | −15,600

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

FOR FURTHER INFORMATION CONTACT: To request more information on the proposed project or to obtain a copy of the data collection plans and instruments, contact: Dr. Stefano Bertuzzi, Health Science Policy Analyst, Office of Science and Technology Policy, OSP, OD; NIH, Building 1, Room 218, 9000 Rockville Pike, Bethesda, MD 20892 or call non-toll-free number 301-495-9286 or e-mail your request, including your address to: stefano.bertuzzi@nih.gov.

Comments Due Date: Comments regarding this information collection are best assured of having their full effect if received within 60 days of the date of this publication.

Dated: August 12, 2010.
Lynn D. Hudson,
Director, Office of Science Policy Analysis, National Institutes of Health.

[FR Doc. 2010-20614 Filed 8-18-10; 8:45 am]

BILLING CODE 4140-01-P